DEPARTMENT OF LABOR

Employment and Training Administration

[TA-W-82,557; TA-W-82,557A; TA-W-82,557B; TA-W-82,557C]

Ericsson Inc. Wireline Network OPS Building Maintenance and Engineering Group (BME) Including On-Site Leased Workers From J.M. Neil & Associates, Inc. Overland Park, Kansas; Ericsson Inc. Network Platforms Group Overland Park, Kansas; Ericsson Inc. Wireless Core Group Including On-Site Leased Workers From J.M. Neil & Associates, Inc., Apeiron, Convergenz LLC, and HL YOH Overland Park, Kansas; Ericsson Inc. National Coordination and Dispatch Center (NCDC) Including On-Site Leased Workers From HL YOH and Apex Atlanta, Georgia; Amended Certification Regarding Eligibility To Apply for Worker Adjustment Assistance

In accordance with Section 223 of the Trade Act of 1974, as amended (“Act”), 19 U.S.C. 2273, the Department of Labor issued a Certification of Eligibility to Apply for Worker Adjustment Assistance on April 2, 2013, applicable to workers of Ericsson Inc., Wireline Network Ops Building Maintenance and Engineering Group (BME), including on-site leased workers from J.M. Neil & Associates, Inc., Overland Park, Kansas (TA-W-82,557) and Ericsson Inc., Network Platforms Group, Overland Park, Kansas (TA-W-82,557A). The Department's Notice of Determination was published in the Federal Register on April 30, 2013 (Volume 78 FR Page 25305).

At the request of a state workforce office, the Department reviewed the certification for workers of the subject firm. Workers of Ericsson Inc., Wireline Network Ops Building Maintenance and Engineering Group (BME), including on-site leased workers from J.M. Neil & Associates, Inc., Overland Park, Kansas (TA-W-82,557) are engaged in activities related to the supply of management of network operations and related telecommunications operators, including proactive alarm monitoring of HVAC, power, building door, halon, and fire detection alarms. Workers of Ericsson Inc., Network Platforms Group, Overland Park, Kansas (TA-W-82,557A) are engaged in activities related management of network operations and related telecommunications operators including wireless and wireline network services such as ticket triage, testing, alarm response, monitoring, verification, and referral to local exchange carriers for routing trouble failures. Workers of Ericsson Inc., Wireless Core, including on-site leased workers from J.M. Neil & Associates, Inc., Apeiron, Convergenz LLC, and HL Yoh, Overland Park, Kansas (TA-W-82,557B) are engaged in activities related to the supply of technical support of wireless core network elements and routine break/fix and preventative maintenance activities. Workers of Ericsson Inc., National Coordination and Dispatch Center (NCDC), including on-site leased workers from HL Yoh and Apex, Atlanta, Georgia (TA-W-82,557C) are engaged in activities related to the supply of dispatched work orders to field technicians to build or fix the telecommunications network.

The investigation confirmed that worker separations in the Wireless Core Group and NCDC are attributable to the shift of services to a foreign country that was the basis for the original certification.

The amended notice applicable to TA-W-82,557 is hereby issued as follows:

All workers of Ericsson Inc., Wireline Network Ops Building Maintenance and Engineering Group (BME), including on-site leased workers from J.M. Neil & Associates, Inc., Overland Park, Kansas (TA-W-82,557), Ericsson Inc., Network Platforms Group, Overland Park, Kansas (TA-W-82,557A), Ericsson Inc., Wireless Core, including on-site leased workers from J.M. Neil & Associates, Inc., Apeiron, Convergenz LLC, and HL Yoh, Overland Park, Kansas (TA-W-82,557B) and Ericsson Inc., National Coordination and Dispatch Center (NCDC), including on-site leased workers from HL Yoh and Apex, Atlanta, Georgia (TA-W-82,557C) who became totally or partially separated from employment on or after March 12, 2012 through April 2, 2015, and all workers in the group threatened with total or partial separation from employment on the date of certification through two years from the date of certification, are eligible to apply for adjustment assistance under Chapter 2 of Title II of the Trade Act of 1974, as amended.

Michael W. Jaffe,
Certifying Officer, Office of Trade Adjustment Assistance.

[FR Doc. 2014-27615 Filed 11-20-14; 8:45 am]

BILLING CODE 4510-FN-P